DEPARTMENT OF TRANSPORTATION

Maritime Administration

[Docket No. DOT-MARAD 2014—0049]

Request for Comments of a Previously Approved Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on January 7, 2014 (Federal Register 892, Vol. 79, No. 4).

DATES: Comments must be submitted on or before April 28, 2014.

FOR FURTHER INFORMATION CONTACT: Jerome Davis, Maritime Administration Office of Sealift Support, 1200 New Jersey Avenue SE., Room W25-310, MAR-630, Washington, DC 20590. Telephone: 202-366-6088; or E-MAIL: jerome.davis@dot.gov. Copies of this collection also can be obtained from that office.

SUPPLEMENTARY INFORMATION: Title: Voluntary Intermodal Sealift Agreement (VISA).

OMB Control Number: 2133-0532.

Type of Request: Renewal of a Previously Approved Information Collection.

Abstract: This information collection is in accordance with Section 708, Defense Production Act, 1950, as amended, under which participants agree to provide commercial sealift capacity and intermodal shipping services and systems necessary to meet national defense requirements. Officials at the Maritime Administration and the Department of Defense use this information to assess the applicants' eligibility for participation in the VISA program.

Affected Public: Operators of dry cargo vessels.

Estimated Number of Respondents: 40.

Estimated Number of Responses: 40.

Annual Estimated Total Annual Burden Hours: 200.

ADDRESSES: Send comments regarding the burden estimate, including suggestions for reducing the burden, to the Office of Management and Budget, Attention: Desk Officer for the Office of the Secretary of Transportation, 725 17th Street NW., Washington, DC 20503. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: March 20, 2014.
Julie P. Agarwal,
Secretary, Maritime Administration.

[FR Doc. 2014-06970 Filed 3-27-14; 8:45 am]

BILLING CODE 4910-81-P